SECURITIES AND EXCHANGE COMMISSION

[Release No. 34-80852; File No. SR-NASDAQ-2017-015]

Self-Regulatory Organizations; The NASDAQ Stock Market LLC; Notice of Withdrawal of Proposed Rule Change To Adopt Rule 7017

June 2, 2017.

On February 17, 2017, The NASDAQ Stock Market LLC (“Exchange”) filed with the Securities and Exchange Commission (“Commission”), pursuant to Section 19(b)(1) of the Securities Exchange Act of 1934 (“Act”) ¹ and Rule 19b-4 thereunder,² a proposed rule change to adopt Rule 7017 to increase the level of information provided to a member acting as the stabilizing agent for a follow-on offering of additional shares of a security that is listed on Nasdaq. The proposed rule change was published for comment in the Federal Register on March 6, 2017.³ On April 17, 2017, pursuant to Section 19(b)(2) of the Act,⁴ the Commission designated a longer period within which to approve the proposed rule change, disapprove the proposed rule change, or institute proceedings to determine whether to disapprove the proposed rule change.⁵ The Commission received no comment letters on the proposed rule change.

¹ 15 U.S.C. 78s(b)(1).

² 17 CFR 240.19b-4.

³ See Securities Exchange Act Release No. 80120 (February 28, 2017), 82 FR 12649.

⁴ 15 U.S.C. 78s(b)(2).

⁵ See Securities Exchange Act Release No. 80465, 82 FR 18784 (April 21, 2017).

On June 1, 2017, the Exchange withdrew the proposed rule change (SR-NASDAQ-2017-015).

For the Commission, by the Division of Trading and Markets, pursuant to delegated authority.⁶
⁶ 17 CFR 200.30-3(a)(12).
Eduardo A. Aleman,
Assistant Secretary.

[FR Doc. 2017-11868 Filed 6-7-17; 8:45 am]

BILLING CODE 8011-01-P